DEPARTMENT OF AGRICULTURE

Farm Service Agency

Information Collection: Customer Service Comment Card

AGENCY: Farm Service Agency, USDA.

ACTION: Notice and request for comments.

SUMMARY: In accordance with the Paperwork Reduction Act of 1995, the Farm Service Agency (FSA) is seeking comments from all interested individuals and organizations on the collection of customers' opinions and comments on FSA's customer service by use of a Customer Service Comment Card. The card will allow customers to comment, either on-the-record or anonymously, directly to FSA's Washington headquarters on the quality of service they receive with respect to FSA programs. Customers can mail or fax the post-paid card, deliver it to their local Service Center or submit it on the Internet.

DATES: Comments on this notice must be received on or before November 29, 2004 to be assured consideration. Comments received after that date will be considered to the extent practicable. Comments should reference the title and number of the information collection to which they pertain.

ADDRESSES: Comments should be sent to Ronald W. Holling, Director of Minority and Socially Disadvantaged Farmers Assistance, Office of Business and Program Integration, Farm Service Agency, STOP 0501, 1400 Independence Avenue, SW., Washington, DC 20250-0501, (202) 720-8530; e-mail Ronald.Holling@usda.gov, and to the Desk Officer for Agriculture, Office of Information and Regulatory Affairs, Office of Management and Budget, Washington, DC 20503. All comments will become a matter of public record. For further information, contact Ronald Holling at the address listed above.

SUPPLEMENTARY INFORMATION: Title: FSA Customer Service Card.

Expiration Date: October 31, 2004.

OMB Number: 0560-0242.

Type of Request: Extension of a currently approved information collection.

Abstract: This information collection is necessary to monitor customer satisfaction with FSA customer service, information, procedures, and facilities and to provide a means to improve customer service. This information collection complies with the issuance of Executive Order 12862 on September 11, 1993, which directs Federal agencies to change the way they do business, to reform their management practices, to provide service to the public that matches or exceeds the best service available in the private sector and to establish and implement customer service standards.

FSA does not have an official mechanism for its customers to comment on the quality of service they receive with respect to FSA programs. FSA customers and various outreach organizations have expressed the need for such a mechanism. They also indicated, and FSA employees have noticed, that some customers are reluctant to submit customer service comments at their local Service Center. The form will allow customers to comment, either on-the-record or anonymously, directly to FSA's Washington headquarters on the quality of service they receive with respect to FSA programs.

All information on the form will be optional. The information to be requested on the card will be: Name and location of the Service Center visited, date of visits, purpose of visit, customer name and address and customer ratings of several aspects of the service received. The ratings will be measured on a one to five scale for:

1. Service,

2. Response time to the customer's request,

3. The servicing employee's courtesy, ability and helpfulness, and

4. The overall quality of service normally received.

In addition, a space will be provided to write any other comments the customer desires.

Customers can mail or fax the post-paid card to FSA's Director of Minority and Socially Disadvantaged Farmers Assistance in Washington, DC, send it electronically on the Internet or deliver it to their local Service Center. Comments will be handled by Headquarters staff and may be referred to FSA State and county offices, as appropriate. The data collected will be used as well to address customer concerns and improve customer service.

The USDA is requesting a 3-year approval.

Respondents: Individuals; potential or actual program participants.

Estimated annual number of respondents: 100,000.

Estimated annual number of forms filed per person: 1.

Estimated average time to respond: 5 minutes (0.083 hours).

Estimated total annual burden hours: 8,333.

Comments are being solicited to determine: (1) Whether the collection of information is necessary for the proper performance of the functions of FSA, including whether the information will have practical utility; (2) the accuracy of FSA's estimate of burden, including the validity of the methodology and assumptions used; (3) ways to enhance the quality, utility and clarity of the information to be collected; and (4) ways to minimize the burden of the collection of information on those who are to respond, including the use of appropriate automated, electronic, mechanical, or other technological collection techniques or other forms of information technology.

All comments received in response to this notice, including names and addresses when provided, will be a matter of public record. Comments will be summarized and included in the submission for OMB approval.

Signed at Washington, DC, on September 23, 2004.
James R. Little,
Administrator, Farm Service Agency.

[FR Doc. 04-21876 Filed 9-29-04; 8:45 am]

BILLING CODE 3410-05-P